POSTAL SERVICE

39 CFR Part 111

New Electronic Signature Option

AGENCY: Postal Service™.

ACTION: Final rule.

SUMMARY: The Postal Service is amending Mailing Standards of the United States Postal Service, Domestic Mail Manual (DMM®) to include a more flexible option for package addressees to provide an electronic signature indicating delivery of a package.

DATES: Effective June 23, 2019.

FOR FURTHER INFORMATION CONTACT: Karen F. Key at (202) 268-7492, Tiffany S. Jesse at (202) 268-7303, or Garry Rodriguez at (202) 268-7281.

SUPPLEMENTARY INFORMATION: The Postal Service published a notice of proposed rulemaking on March 15, 2019, (84 FR 9470-9471) to amend the DMM in various sections to offer a more flexible option for package addressees (or their representatives) to provide an electronic signature indicating delivery of a package, when the sender chooses the following signature services: Priority Mail Express®, Signature Confirmation™ service, and Insurance for more than $500. Generally, current practice is for the recipient of the package to sign at the time of delivery.

The Postal Service received one formal response to the proposed rule, which included multiple comments and suggestions.

The responder was generally in agreement with the continuing efforts of the Postal Service to enhance the level of service. However, the responder had several comments and suggestions as follows:

Comment: The Postal Service should resolve ambiguity in the process of registering for the electronic signature service and providing the signature.

Response: To sign up for the Electronic Signature Online (eSOL™) service, a customer must be an Informed Delivery® registered user or must register before they enroll for the service. When a customer logs on to their Informed Delivery account, they will see the eSOL icon to proceed with the enrollment. The signature will be collected/provided through an electronic process by computer or mobile phone.

Comment: The Postal Service should clarify what effects the transition to the electronic signature service may have on the ability to provide its service, or how customers will be affected by the transition to this new service.

Response: The Postal Service does not expect any transition issues to arise. After signing up and providing an electronic signature, the customer would receive notice via Informed Delivery of each eligible package expected to arrive, and an option to use the electronic signature for that package. Thus, the only impact on customers is that they can receive Priority Mail Express, Signature Confirmation and items Insured for over $500 more conveniently if they are registered for Informed Delivery and eSOL. The Postal Service will not leave a PS Form 3849, We Redeliver for You! notice and the customer would not be required to either be home for the delivery or pick up the item from a Post Office or schedule a redelivery.

Comment: The third comment questioned the potential of package theft, and the possibility of the Postal Service collecting data on the prevalence of such thefts.

Response: eSOL is an option for each item. If the item does not fit in the customer's mailbox, the customer has the option of providing instructions to their carrier indicating where to leave the item. The Postal Service will continue to offer the option of requiring a recipient signature at the time of delivery. If a customer feels at risk due to potential package theft, eSOL may not be a service that they would like to use. For this initiative, the Postal Service is focused on providing an option to customers for a successful delivery of packages. We do not plan to collect data on the number of package thefts for ESOF items after the delivery is completed.

Suggestion: The Postal Service should deploy the electronic signature service through a digital platform requiring steps that increase perceived levels of security and prevent potential liability disputes from occurring.

Response: eSOL is available through Informed Delivery, a digital platform. To provide their signature, customers must successfully pass vigorous Knowledge-Based Authentication (KBA) to validate their identity. All standard security protocols for protecting customer signatures have been vetted and the signatures are maintained on a secure server.

Suggestion: The Postal Service should deploy photo delivery confirmation.

Response: Photo delivery confirmation is an option that the Postal Service is currently exploring. However, photo delivery confirmation is not being deployed with the eSOL application.

Suggestion: The Postal Service should give a customer the option to provide and update special delivery instructions.

Response: The option to provide delivery instructions is currently provided online for items that will not fit in the customer's mailbox.

Suggestion: The Postal Service should provide scheduled delivery service.

Response: Scheduled delivery service is an option that the Postal Service is currently exploring. However, scheduled delivery service is not being deployed with the eSOL application.

Suggestion: The Postal Service should extend the service to all packages, rather than just Commercial packages, and provide notice of this update.

Response: The application of an eSOL is available for consumers per the requirement to be a registered Informed Delivery customer. Currently, Informed Delivery is not available to business customers. However, shippers who want the Postal Service to obtain a signature at the time of delivery have the option to indicate this requirement in the shipping manifest. The Postal Service will provide notice if and when it expands the availability of the eSOL option to Retail packages that are Priority Mail Express, Insurance or Signature Confirmation.

As discussed in the Proposed Rule, the Postal Service is adding an electronic option for deliveries. Customers have the option to sign up through Informed Delivery and provide a signature electronically. This will enable the customer to apply the previously provided signature to future Commercial package deliveries sent to the customer's address using Priority Mail Express, Signature Confirmation service, or Insurance for more than $500, eliminating the need for a signature at the time of delivery. When the shipper does not reject the use of the previously provided signature, the customer who previously provided an electronic signature will be given the option for each delivery whether to sign at the time of delivery, or use the previously provided electronic signature.

For Priority Mail Express, the shipper already must request a signature in order for it be collected. This will make the previously provided electronic signature available for such deliveries, unless the shipper indicates on the shipping manifest that the signature needs to be collected from the recipient at the time of delivery.

Application to all shipments using Priority Mail Express, Signature Confirmation service, and Insurance for more than $500, rather than just Commercial shipments, may be phased in later.

Changes to the DMM language include a more general reference to the signature for the affected services, while adding a description of “signature” which distinguishes between the traditional signature and the electronic signature.

In addition, the Postal Service is removing outdated text referring to Priority Mail Express labels printed prior to January 2012.

We will publish an appropriate amendment to 39 CFR part 111 to reflect these changes.

List of Subjects in 39 CFR Part 111

Administrative practice and procedure, Postal Service.

Accordingly, 39 CFR part 111 is amended as follows:

PART 111—[AMENDED]

1. The authority citation for part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

100 Retail Mail Letters, Cards, Flats, and Parcels

* * * * *

110 Priority Mail Express

* * * * *

115 Mail Preparation

* * * * *

2.0 Priority Mail Express 1-Day and 2-Day

* * * * *

[Delete 2.2 Waiver of Signature, in its entirety and renumber 2.3 and 2.4 as 2.2 and 2.3.]

2.2 Signature Required

[Revise the first sentence of renumbered 2.2 to read as follows:]

For editions of Priority Mail Express Label 11-B or Label 11-F printed on or after January 2012, a mailer sending a Priority Mail Express item, and requiring a signature, must instruct the USPS to provide a signature by checking the “signature required” box on Label 11-B or Label 11-F or indicating signature is requested on single-ply commercial label. * * *

* * * * *

200 Commercial Mail Letters, Cards, Flats, and Parcels

* * * * *

210 Priority Mail Express

* * * * *

215 Mail Preparation

* * * * *

2.0 Priority Mail Express 1-Day and 2-Day

* * * * *

[Delete 2.2 Waiver of Signature, in its entirety and renumber 2.3 and 2.4 as 2.2 and 2.3.]

2.2 Signature Required

[Revise the first sentence of renumbered 2.2 to read as follows:]

For editions of Priority Mail Express Label 11-B or Label 11-F printed on or after January 2012, a mailer sending a Priority Mail Express item, and requiring a signature, must instruct the USPS to provide a signature by checking the “signature required” box on Label 11-B or Label 11-F or indicating signature is requested on single-ply commercial label. * * *

* * * * *

500 Additional Mailing Services

503 Extra Services

1.0 Basic Standards for All Extra Services

1.1 Description

[Revise the first sentence of 1.1 to read as follows:]

Extra services described in 2.0 through 11.0 provide optional services such as insurance coverage, restricted delivery, and evidence of mailing, or a record of delivery (which includes a signature). * * *

* * * * *

1.8 Obtaining Delivery Information and Delivery Records

Delivery records for extra services are available as follows:

[Revise the text of item a to read as follows:]

a. Information by article number can be retrieved at www.usps.com or by calling 1-800-222-1811. A proof of delivery letter (including a signature, when available) may be provided by email. When a proof of delivery letter includes a signature, the signature provided may be a signature that was obtained from the recipient at the time of delivery or, for certain services, an electronic signature that was previously provided by the addressee (or representative) and is maintained on file with the Postal Service. Eligible mailers may require at the time of mailing that a signature be obtained from the recipient at the time of delivery.

* * * * *

4.0 Insured Mail

* * * * *

4.3 Basic Standards

4.3.1 Description

Insured mail is subject to the basic standards in 1.0; see 1.4 for eligibility. The following additional standards apply to insured mail:

* * * * *

[Revise the fourth and fifth sentences of item c to read as follows:]

c. * * * An item insured for more than $500.00 receives a delivery scan (includes returns products meeting the applicable standards in 505) and the USPS provides a signature as the delivery record to the mailer electronically (excludes returns products). Customers may optionally obtain a delivery record by purchasing a printed return receipt (Form 3811 (also see 6.0; excludes returns products). * * *

* * * * *

8.0 USPS Signature Services

8.1 Basic Standards

8.1.1 Description

* * * USPS Signature Services are available as follows:

[Revise the second sentence of item a to read as follows:]

a. * * * A delivery record (including a signature) is maintained by the USPS and is available electronically or by email, upon request. * * *

* * * * *

508 Recipient Services

1.0 Recipient Options

1.1 Basic Recipient Concerns

* * * * *

1.1.7 Priority Mail Express and Accountable Mail

The following conditions also apply to the delivery of Priority Mail Express, Registered Mail, Certified Mail, mail insured for more than $500.00, Adult Signature, or COD, as well as mail for which a return receipt is requested or the sender has specified restricted delivery:

* * * * *

[Revise the text of item b to read as follows:]

b. Unless an electronic signature is used as described in 503.1.8a, a mailpiece may not be opened or given to the recipient before the recipient signs and legibly prints his or her name on the applicable form or label and returns the form or label to the USPS employee.

* * * * *

Ruth B. Stevenson,
Attorney, Federal Compliance.

[FR Doc. 2019-09840 Filed 5-13-19; 8:45 am]

BILLING CODE 7710-12-P